DEPARTMENT OF HEALTH AND HUMAN SERVICES

Centers for Disease Control and Prevention

[Program Announcement Number 04100]

Disease, Disability, and Injury Prevention and Control Special Emphasis Panel (SEP): Prevention Epicenter Program—Microbiology Errors Associated With Processing Blood and Sterile Body Site Cultures—The Impact of New Forms of Antimicrobial Use, Resistance, Laboratory Methods, and Infection Control Practices on the Incidence of Clostridium Difficile and Associated Patient Morbidity and Healthcare Costs

In accordance with Section 10(a)(2) of the Federal Advisory Committee Act (Pub. L. 92-463), the Centers for Disease Control and Prevention (CDC) announces the following meeting: Prevention Epicenter Program—Microbiology Errors Associated with Processing Blood and Sterile Body Site Cultures—The Impact of New Forms of Antimicrobial Use, Resistance, Laboratory Methods, and Infection Control Practices on the Incidence of Clostridium difficile and Associated Patient Morbidity and Healthcare Costs, Program Announcement Number 04100.

Name: Disease, Disability, and Injury Prevention and Control Special Emphasis Panel (SEP).

Times and Dates: 8 a.m.-8:30 a.m., July 27, 2004 (Open). 8:45 a.m.-3:30 p.m., July 27, 2004 (Closed).

Place: Marriott Airport Hotel, 4711 Best Road, College Park, GA 30337, Telephone number 404-766-7900.

Status: Portions of the meeting will be closed to the public in accordance with provisions set forth in Section 552b(c)(4) and (6), Title 5 U.S.C., and the Determination of the Director, Management Analysis and Services Office, CDC, pursuant to Pub. L. 92-463.

Matters To Be Discussed: The meeting will include the review, discussion, and evaluation of applications received in response to Program Announcement Number 04100.

For Further Information Contact: Trudy Messmer, Ph.D., Scientific Review Administrator, National Center for Infectious Diseases, CDC, 1600 Clifton Road, NE., MS-C19, Atlanta, GA 30333, Telephone 404-639-2176.

The Director, Management Analysis and Services Office, has been delegated the authority to sign Federal Register notices pertaining to announcements of meetings and other committee management activities, for both CDC and the Agency for Toxic Substances and Disease Registry.

Dated: June 29, 2004.
Alvin Hall,
Director, Management Analysis and Services Office, Centers for Disease Control and Prevention.

[FR Doc. 04-15386 Filed 7-6-04; 8:45 am]

BILLING CODE 4163-18-P